ENVIRONMENTAL PROTECTION AGENCY

[RCRA-2003-0023; FRL-7590-8]

Hazardous Waste Management System: Petroleum Refining Process Wastes; Identification of Characteristically Hazardous Self-Heating Solids; Land Disposal Restrictions: Treatment Standards for Spent Hydrorefining Catalyst (K172) Hazardous Waste—Extension of Comment Period; Correction

AGENCY: Environmental Protection Agency (EPA).

ACTION: Extension of comment period; correction.

SUMMARY: On October 20, 2003 (68 FR 59935) EPA published a notice of data availability (NODA) to make available to the public certain analytical data pertaining to spent hydrorefining catalyst from petroleum refining operations (K172). The original comment period was to expire on December 4, 2003; today's notice extends the comment period to January 18, 2004. In addition, in the ADDRESSES section of the October 20, 2003 NODA, EPA made an inadvertent reference to a “treatability study” and “peer review documents.” EPA is correcting this by indicating today that there is no “treatability study” or “peer review documents” related to this NODA.

DATES: Submit comments on or before January 18, 2004. Comments postmarked after this date will be marked “late” and may not be considered.

ADDRESSES: Comments may be submitted electronically, by mail, by facsimile, or through hand delivery/courier. Follow the detailed instructions as provided in section I of the SUPPLEMENTARY INFORMATION section of the October 20, 2003 Federal Register document.

SUPPLEMENTARY INFORMATION: This document extends the public comment period established in the Federal Register issued on October 20, 2003 (68 FR 59935). In that document, EPA published a notice of data availability (NODA) to make available to the public certain analytical data pertaining to the polyaromatic hydrocarbon (PAH) content of spent hydrorefining catalyst from petroleum refining operations (K172). The data were originally submitted by the Vanadium Producers and Reclaimers Association (VPRA), formerly known as The Ferroalloys Association (TFA), in a petition requesting EPA to amend the land disposal restriction (LDR) treatment standards for the K172 listed waste. The VPRA petition also asserted that K171 and K172 wastes are often being landfilled without being decharacterized for their ignitability/reactivity potential. In the October 20, 2003 NODA, EPA provided information supporting the petitioner's assertions and requested comment and submittal of any additional relevant documentation, but only on the analytical data for K172 and information supporting VPRA's concerns about characteristically hazardous solids. EPA is hereby extending the comment period, which was set to end on December 4, 2003 to January 18, 2004.

To submit comments, or access the official public docket, please follow the detailed instructions as provided in Section I of the SUPPLEMENTARY INFORMATION section of the October 20, 2003 Federal Register document. If you have questions, contact Ross Elliott at (703) 308-8748, elliott.ross@epa.gov, or write him at the Office of Solid Waste, Mail Code 5304W, U.S. EPA, 1200 Pennsylvania Avenue NW., Washington, DC 20460.

Dated: November 7, 2003.
Matt Hale,
Acting Director, Office of Solid Waste.

[FR Doc. 03-29319 Filed 11-21-03; 8:45 am]

BILLING CODE 6560-50-P